DEPARTMENT OF COMMERCE

Census Bureau

Agency Information Collection Activities; Request for Comments; Revision of the Confidentiality Pledge Under Title 13 United States Code, Section 9

AGENCY: Census Bureau, U.S. Department of Commerce.

ACTION: Notice.

SUMMARY: Under 44 U.S.C. 3506(e) and 13 U.S.C. Section 9, the U.S. Census Bureau is seeking comments on revisions to the confidentiality pledge it provides to its respondents under Title 13, United States Code, Section 9. These revisions are required by the passage and implementation of provisions of the Federal Cybersecurity Enhancement Act of 2015 (H.R. 2029, Division N, Title II, Subtitle B, Sec. 223), which permit and require the Secretary of Homeland Security to provide Federal civilian agencies' information technology systems with cybersecurity protection for their Internet traffic. More details on this announcement are presented in the SUPPLEMENTARY INFORMATION section below.

DATES: To ensure consideration, written comments must be submitted on or before February 21, 2017.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information should be directed to Robin J. Bachman, Policy Coordination Office, Census Bureau, HQ-8H028, Washington, DC 20233; 301-763-6440 (or via email at pco.policy.office@census.gov). Due to delays in the receipt of regular mail related to security screening, respondents are encouraged to use electronic communications.

SUPPLEMENTARY INFORMATION:

I. Abstract

Federal statistics provide key information that the Nation uses to measure its performance and make informed choices about budgets, employment, health, investments, taxes, and a host of other significant topics. The overwhelming majority of Federal surveys are conducted on a voluntary basis. Respondents, ranging from businesses to households to institutions, may choose whether or not to provide the requested information. Many of the most valuable Federal statistics come from surveys that ask for highly sensitive information such as proprietary business data from companies or particularly personal information or practices from individuals. Strong and trusted confidentiality and exclusively statistical use pledges under Title 13, U.S.C. and similar statistical confidentiality pledges are effective and necessary in honoring the trust that businesses, individuals, and institutions, by their responses, place in statistical agencies.

Under the authority of Title 13, U.S.C. and similar statistical confidentiality protection statutes, many Federal statistical agencies make statutory pledges that the information respondents provide will be seen only by statistical agency personnel or their sworn agents, and will be used only for statistical purposes. Title 13, U.S.C. and similar statutes protect the confidentiality of information that agencies collect solely for statistical purposes and under a pledge of confidentiality. These acts protect such statistical information from administrative, law enforcement, taxation, regulatory, or any other non-statistical use and immunize the information submitted to statistical agencies from legal process. Moreover, many of these statutes carry criminal penalties of a Class E felony (fines up to $250,000, or up to five years in prison, or both) for conviction of a knowing and willful unauthorized disclosure of covered information.

As part of the Consolidated Appropriations Act for Fiscal Year 2016 signed on December 17, 2015, the Congress included the Federal Cybersecurity Enhancement Act of 2015 (H.R. 2029, Division N, Title II, Subtitle B, Sec. 223). This Act, among other provisions, permits and requires the Secretary of Homeland Security to provide Federal civilian agencies' information technology systems with cybersecurity protection for their Internet traffic. The technology currently used to provide this protection against cyber malware is known as Einstein 3A; it electronically searches Internet traffic in and out of Federal civilian agencies in real time for malware signatures.

When such a signature is found, Department of Homeland Security (DHS) personnel shunt the Internet packets that contain the malware signature aside for further inspection. Since it is possible that such packets entering or leaving a statistical agency's information technology system may contain a small portion of confidential statistical data, statistical agencies can no longer promise their respondents that their responses will be seen only by statistical agency personnel or their sworn agents. However, they can promise, in accordance with provisions of the Federal Cybersecurity Enhancement Act of 2015, that such monitoring can be used only to protect information and information systems from cybersecurity risks, thereby, in effect, providing stronger protection to the integrity of the respondents' submissions.

Consequently, with the passage of the Federal Cybersecurity Enhancement Act of 2015, the Federal statistical community has an opportunity to welcome the further protection of its confidential data offered by DHS' Einstein 3A cybersecurity protection program. The DHS cybersecurity program's objective is to protect Federal civilian information systems from malicious malware attacks. The Federal statistical system's objective is to ensure that the DHS Secretary performs those essential duties in a manner that honors the Government's statutory promises to the public to protect their confidential data. Given that the Department of Homeland Security is not a Federal statistical agency, both DHS and the Federal statistical system have been successfully engaged in finding a way to balance both objectives and achieve these mutually reinforcing objectives.

Accordingly, DHS and Federal statistical agencies, in cooperation with their parent departments, have developed a Memorandum of Agreement for the installation of Einstein 3A cybersecurity protection technology to monitor their Internet traffic and have incorporated an associated Addendum on Highly Sensitive Agency Information that provides additional protection and enhanced security handling of confidential statistical data. However, many current Title 13, U.S.C. and similar statistical confidentiality pledges promise that respondents' data will be seen only by statistical agency personnel or their sworn agents. Since it is possible that DHS personnel could see some portion of those confidential data in the course of examining the suspicious Internet packets identified by Einstein 3A sensors, statistical agencies need to revise their confidentiality pledges to reflect this process change.

Therefore, the U.S. Census Bureau is providing this notice to alert the public to the confidentiality pledge revisions in an efficient and coordinated fashion and to request public comments on the revisions. The following section contains the revised confidentiality pledge and a listing of the U.S. Census Bureau's current PRA OMB numbers and information collection titles for the Information Collections whose confidentiality pledges will change to reflect the statutory implementation of DHS' Einstein 3A monitoring for cybersecurity protection purposes.

II. Method of Collection

The following is the revised statistical confidentiality pledge for the Census Bureau's data collections:

The U.S. Census Bureau is required by law to protect your information. The Census Bureau is not permitted to publicly release your responses in a way that could identify you. Per the Federal Cybersecurity Enhancement Act of 2015, your data are protected from cybersecurity risks through screening of the systems that transmit your data.

The following listing includes Census Bureau information collections which are confidential under 13 U.S.C. Section 9, as well as information collections that the Census Bureau conducts on behalf of other agencies which are confidential under 13 U.S.C. Section 9 and for which the confidentiality pledge will also be revised.

OMB No. | Title of information collection
0607-0008 | Manufacturers' Shipments, Inventories, and Orders Survey.
0607-0013 | Annual Retail Trade Report.
0607-0049 | Current Population Survey (CPS) Basic Demographics.
0607-0104 | Advance Monthly Retail Trade Survey (MARTS).
0607-0110 | Survey of Housing Starts, Sales, and Completions.
0607-0117 | U.S. Census-Age Search.
0607-0151 | The Boundary and Annexation Survey (BAS) & Boundary Validation Program (BVP).
0607-0153 | Construction Progress Reporting Surveys.
0607-0175 | Quarterly Survey of Plant Capacity Utilization.
0607-0179 | Housing Vacancy Survey (HVS).
0607-0189 | Business and Professional Classification Report.
0607-0190 | Monthly Wholesale Trade Survey.
0607-0195 | Annual Wholesale Trade Survey (AWTS).
0607-0354 | Annual Social and Economic Supplement to the Current Population Survey.
0607-0368 | Special Census Program.
0607-0422 | Service Annual Survey.
0607-0432 | Quarterly Financial Report (QFR).
0607-0444 | 2014-2016 Company Organization Survey.
0607-0449 | Annual Survey of Manufactures.
0607-0464 | October School Enrollment Supplement to the Current Population Survey.
0607-0466 | Current Population Survey, Voting and Registration Supplement.
0607-0561 | Manufacturers' Unfilled Orders Survey.
0607-0610 | Current Population Survey June Fertility Supplement.
0607-0717 | Monthly Retail Trade Survey.
0607-0725 | Generic Clearance for Questionnaire Pretesting Research.
0607-0757 | 2017 New York City Housing and Vacancy Survey.
0607-0782 | Annual Capital Expenditures Survey.
0607-0795 | Generic Clearance for Geographic Partnership Programs.
0607-0809 | Generic Clearance for MAF and TIGER Update Activities.
0607-0810 | The American Community Survey.
0607-0907 | Quarterly Services Survey.
0607-0909 | Information and Communication Technology Survey.
0607-0912 | Business R&D and Innovation Survey.
0607-0921 | 2017 Economic Census—Commodity Flow Survey (CFS)—Advance Questionnaire.
0607-0932 | 2017 Economic Census—Commodity Flow Survey.
0607-0936 | American Community Survey Methods Panel Tests.
0607-0963 | 2015 Management and Organizational Practices Survey.
0607-0969 | Federal Statistical System Public Opinion Survey.
0607-0971 | Generic Clearance for 2020 Census Tests to Research the Use of Automation in Field Data Collection Activities.
0607-0977 | 2014 Survey of Income and Program Participation (SIPP) Panel.
0607-0978 | Generic Clearance for Internet Nonprobability Panel Pretesting.
0607-0983 | Comparing Health Insurance Measurement Error (CHIME).
0607-0986 | Annual Survey of Entrepreneurs.
0607-0987 | The School District Review Program (SDRP).
0607-0988 | The Redistricting Data Program.
0607-0989 | 2016 Census Test.
0607-0990 | National Survey of Children's Health.
0607-0991 | 2017 Economic Census Industry Classification Report.
0607-0992 | Address Canvassing Testing.
0607-XXXX | 2017 Census Test—currently submitted for clearance.
0607-0760 | Economic Census Round 3 Focus Group Discussion—currently submitted for clearance.
0607-XXXX | Collection of State Administrative Records Data—currently submitted for clearance.
0607-XXXX | 2020 Census Local Update of Census Addresses Operation (LUCA)—currently submitted for clearance.
2528-0017 | 2015 American Housing Survey.
1220-0175 | American Time Use Survey (ATUS).
1220-0050 | Consumer Expenditure Quarterly and Diary Surveys (CEQ/CED).
1220-0100 | Current Population Survey (CPS)—Basic Labor Force.
1121-0317 | Identify Theft Supplement to the NCVS.
1121-0111 | National Crime Victimization Survey 2015-2018.
3145-0141 | National Survey of College Graduates (NSCG).
1018-0088 | National Survey of Fishing, Hunting, and Wildlife-Associated Recreation.
1121-0260 | 2015 Police Public Contact Supplement.
1121-0184 | 2017 School Crime Supplement to the NCVS.
1121-0302 | Supplemental Victimization Survey.
2528-0013 | Survey of Market Absorption (SOMA).
2528-0276 | Rental Housing Finance Survey (RHFS).
1905-0169 | Manufacturing Energy Consumption Survey (MECSA).
2528-0029 | Manufactured Housing Survey (MHS).
0935-0110 | Medical Expenditure Panel Survey (MEPS).
1220-0187 | ATUS-Eating and Health Supplement.
0536-0043 | Food Security Supplement to the Current Population Survey.
1220-0153 | Contingent Worker Supplement to the Current Population Survey—(Currently in Federal Register Notice Stage—has not been fully approved).
1220-0102 | Veterans Supplement to the Current Population Survey.
0970-0416 | Child Support Supplement to the Current Population Survey.
3064-0167 | National Survey of Unbanked and Underbanked Households.
1220-0102 | Volunteers Supplement.
1220-0104 | Displaced Workers Supplement.
3135-0136 | Survey of Public Participation in the Arts.
0660-0221 | Computer and Internet Use.

III. Data

OMB Control Number: 0607-0993.

Form Number(s): None.

Affected Public: All survey respondents to Census Bureau data collections.

Legal Authority: 44 U.S.C. 3506(e) and 13 U.S.C. Section 9.

IV. Request for Comments

Comments are invited on the necessity and efficacy of the Census Bureau's revised confidentiality pledge above. Comments submitted in response to this notice will become a matter of public record.

Sheleen Dumas,
PRA Departmental Lead, Office of the Chief Information Officer.

[FR Doc. 2016-30959 Filed 12-22-16; 8:45 am]

BILLING CODE 3510-07-P